DEPARTMENT OF THE INTERIOR

Bureau of Indian Affairs

[2231A2100DD/AAKC001030/A0A501010.999900]

Advisory Board of Exceptional Children

AGENCY: Bureau of Indian Affairs, Interior

ACTION: Notice of meeting.

SUMMARY: The Bureau of Indian Education (BIE) is announcing that the Advisory Board for Exceptional Children will hold a two-day in-person and virtual meeting. The purpose of the meeting is to meet the mandates of the Individuals with Disabilities Education Act of 2004 (IDEA) for Indian children with disabilities.

DATES: The BIE Advisory Board meeting will be held Thursday, September 15, 2022 from 8:00 a.m. to 4:45 p.m., Eastern Daylight Time (EDT); and Friday, September 16, 2022 from 8:00 a.m. to 4:30 p.m., Eastern Daylight Time (EDT).

ADDRESSES:

• Meeting: The public meeting will be held at the 7th floor South Penthouse room, located between the 7200 and 7300 corridors, at Department of the Interior, 1849 C Street NW, Washington, DC 20240. For individuals who are not able to attend the meeting in-person, the meetings will also be conducted virtually. See the SUPPLEMENTARY INFORMATION section of this notice for information on how to join the meeting.

• Comments: Public comments can be emailed to the DFO at Jennifer.davis@bie.edu; or faxed to (602) 265-0293 Attention: Jennifer Davis, DFO; or mailed or hand delivered to the Bureau of Indian Education, Attention: Jennifer Davis, DFO, 2600 N Central Ave., 12th floor, Suite 2500, Phoenix, AZ 85004. Please make requests in advance for sign language interpreter services, assistive listening devices, or other reasonable accommodations at least seven (7) business days prior to the meeting to give the Department of the Interior sufficient time to process your request. All reasonable accommodation requests are managed on a case-by-case basis.

FOR FURTHER INFORMATION CONTACT: Jennifer Davis, Designated Federal Officer, Bureau of Indian Education, 2600 N Central Ave., 12th floor, Suite 250, Phoenix, AZ 85004, Jennifer.davis@bie.edu, or (202) 860-7845. Individuals in the United States who are deaf, deafblind, hard of hearing, or have a speech disability may dial 711 (TTY, TDD, or TeleBraille) to access telecommunications relay services.

SUPPLEMENTARY INFORMATION: The Advisory Board was established under the Individuals with Disabilities Act of 2004 (20 U.S.C. 1400 et seq.) to advise the Secretary of the Interior, through the Assistant Secretary-Indian Affairs, on the needs of Indian children with disabilities. All meetings, including virtual sessions (webinar and phone), are open to the public in their entirety. Interested persons are invited to submit comments for the Advisory Board. Comments submitted prior to the meeting will be provided to the Advisory Board in advance for consideration. Before including your address, phone number, email address, or other personal identifying information in your comment, you should be aware that your entire comment—including your personal identifying information—may be made publicly available at any time. While you can ask us in your comment to withhold your personal identifying information from public review, we cannot guarantee that we will be able to do so.

Agenda

The following general agenda items will be for the September 15, 2022 and September 16, 2022 meeting. A detailed agenda will be posted on the BIE website 24 to 48 hours prior to the first meeting day at https://www.bie.edu/landing-page/special-education. The discussions and reports are regarding special education topics for children with disabilities within the BIE school system:

• Discussions with the Office of the Assistant Secretary-Indian Affairs, U.S. Department of the Interior.

• Discussions with the U.S. Department of Education/Office of Special Education and Rehabilitative Services (OSERS)/and Office of Special Education Programs (OSEP).

• Updates from the BIE Central Office.

• Updates from the BIE/Division of Performance and Accountability (DPA)/Special Education Program.

• Updates from the BIE Office of Sovereignty in Indian Education.

• The Advisory Board members will be working on and finalizing the 2022 annual report.

• Orientation for the Advisory Board members.

• Three Public Commenting Sessions will be provided during both meeting days.

○ On Thursday, September 15, 2022 two sessions (15 minutes each) will be provided, 11:15 a.m. to 11:30 a.m. EDT; and 2:15 p.m. to 2:30 p.m. EDT. Public comments can be provided in-person, webinar, or telephone conference call.

○ On Friday, September 16, 2022 one 15-minute session will be provided, 11:45 a.m. to 12:00 p.m. EDT. Public comments can be provided in-person, webinar, or telephone conference call.

Meeting Access

To access the two-day in-person and virtual meeting (Thursday, September 15, 2022 and Friday, September 16, 2022) you can join through any of the following means.

Join Meeting by webinar: https://www.zoomgov.com/j/1618293969?pwd=VWltN0IvYVRtQTRGTE1HMy9QVUMrdz09.

Meeting ID: 161 829 3969.

Passcode: 982875.

Join Meeting by phone:

One tap mobile: +16692545252,,1618293969#,,,,*982875# US (San Jose). +16692161590,,1618293969#,,,,*982875# US (San Jose).

Dial by your location: +1 669 254 5252 US (San Jose); +1 669 216 1590 US (San Jose); +1 646 828 7666 US (New York); +1 551 285 1373 US).

Meeting ID: 161 829 3969.

Passcode: 982875.

Find your local number: https://www.zoomgov.com/u/adPtsqdJT6.

Authority: 5 U.S.C. appendix 5; 20 U.S.C. 1400 et seq.

Bryan Newland,
Assistant Secretary—Indian Affairs.

[FR Doc. 2022-18465 Filed 8-25-22; 8:45 am]

BILLING CODE 4337-15-P